DEPARTMENT OF TRANSPORTATION

Federal Aviation Administration

14 CFR Part 39

[Docket No. FAA-2025-1735; Project Identifier MCAI-2024-00408-R; Amendment 39-23199; AD 2025-24-04]

RIN 2120-AA64

Airworthiness Directives; Airbus Helicopters

AGENCY: Federal Aviation Administration (FAA), DOT.

ACTION: Final rule.

SUMMARY: The FAA is superseding Airworthiness Directive (AD) 2021-20-16, which applied to all Airbus Helicopters Model AS355E, AS 355-F, AS 355-F1, AS355F2, AS355N, and AS355NP helicopters and certain Model AS 350B3 helicopters. AD 2021-20-16 required repetitive cleaning and visual and detailed inspections of the right-hand side of the vertical fin spar and vertical fin upper attachments for discrepancies (cracking) with corrective action, if necessary. Since the FAA issued AD 2021-20-16, Airbus Helicopters developed a modification of the upper fin assembly. This AD requires the same actions as AD 2021-20-16 and replacement of the upper fin assembly with a modified upper fin assembly, which constitutes a terminating action for the repetitive inspections. The FAA is issuing this AD to address the unsafe condition on these products.

DATES: This AD is effective January 12, 2026.

The Director of the Federal Register approved the incorporation by reference of a certain publication listed in this AD as of January 12, 2026.

ADDRESSES:

AD Docket: You may examine the AD docket at regulations.gov under Docket No. FAA-2025-1735; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-1735.

FOR FURTHER INFORMATION CONTACT: Steven Warwick, Aviation Safety Engineer, FAA, 1600 Stewart Ave., Suite 410, Westbury, NY 11590; phone: (817) 222-5225; email: Steven.R.Warwick@faa.gov.

SUPPLEMENTARY INFORMATION:

Background

The FAA issued a notice of proposed rulemaking (NPRM) to amend 14 CFR part 39 to supersede AD 2021-20-16, Amendment 39-21754 (86 FR 57550, dated October 18, 2021) (AD 2021-20-16). AD 2021-20-16 applied to Airbus Helicopters Model AS355E, AS 355-F, AS 355-F1, AS355F2, AS355N, and AS355NP helicopters, all serial numbers, and Model AS 350B3 helicopters, all serial numbers except those that have Airbus Helicopters Modification 073148 in production. AD 2021-20-16 required repetitive cleaning and detailed inspections for cracking of the vertical fin spar and vertical fin upper attachments, and corrective action if necessary. The FAA issued AD 2021-20-16 to address cracking in the spar of the upper part of the vertical fin and fractures in the front attachment screws.

The NPRM was published in the Federal Register on August 21, 2025 (90 FR 40786). The NPRM was prompted by EASA AD 2024-0139, dated July 12, 2024 (EASA AD 2024-0139) (also referred to as the MCAI), issued by EASA, which is the Technical Agent for the Member States of the European Union. The MCAI states that after a further occurrence of a crack on a Model AS355NP helicopter, EASA concluded there was a need to temporarily reduce the never-exceed-speed (VNE) for all AS355 helicopters. In addition, Airbus Helicopters developed a reinforced upper fin assembly and published service information that provides instructions for this modification. EASA AD 2024-0139 retains the repetitive inspections and VNE limitations in its previous ADs and also requires modification of the helicopter with the reinforced upper fin assembly, which is the terminating action for the inspections and limitations.

In the NPRM, the FAA proposed to require the same actions as AD 2021-20-16 and proposed to require replacement of the upper fin assembly with a modified upper fin assembly, which constitutes a terminating action for the repetitive inspections and limitations.

The FAA is issuing this AD to address cracking in the upper fin spar and fracturing of the front attachment screws. The unsafe condition, if not addressed, could result in in-flight separation of the upper part of the vertical fin and consequent loss of control of the helicopter.

You may examine the MCAI in the AD docket at regulations.gov under Docket No. FAA-2025-1735.

Discussion of Final Airworthiness Directive

Comments

The FAA received a comment from one individual who disagreed with the practice of relying on manufacturer-issued and foreign regulatory documents that are not fully integrated into the rule text. The following presents the comment received on the NPRM and the FAA's response to the comment.

Request To Incorporate Requirements Directly Into the AD

The individual commenter requested that the FAA AD become a stand-alone document. The individual commented that relying on EASA's AD as the base document, and providing exceptions in the FAA's rule, makes the requirements unclear and confusing. The commenter further stated that the AD should comply with plain language guidelines in FAA Order 1000.36.

The FAA disagrees with the request. In the FAA's ongoing efforts to improve the efficiency of the AD process, the FAA developed a process to use some civil aviation authority (CAA) ADs as the primary source of information for compliance with requirements for corresponding FAA ADs. This AD incorporates EASA AD 2024-0139 by reference. Incorporating information by reference is a common method of federal rulemaking, that is explicitly permitted under 1 CFR 51. As stated in the Incorporation by Reference Handbook, June 2023 Edition, incorporation of relevant, usually technical information (such as the MCAI) promotes efficiency. The commenter did not identify a provision of FAA Order 1000.36A that the IBR practice violates, and none are apparent to the FAA. The complete inspection method, measurable thresholds, and corrective actions are included in EASA AD 2024-0139 and the material referenced in EASA AD 2024-0139, which are available at regulations.gov under the Docket No. for this AD, FAA-2025-1735. The FAA has not changed this AD in this regard.

Conclusion

These products have been approved by the CAA of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0139, which specifies procedures for amending the rotorcraft flight manual (RFM) and installing a placard to add a speed limitation. EASA AD 2024-0139 allows exceeding the speed limitation on certain maintenance flights and specifies accomplishing an inspection after each flight where the speed is exceeded. EASA AD 2024-0139 also requires repetitively inspecting the right-hand external side around the two top screws of certain upper fin spars for a crack. EASA AD 2024-0139 specifies that installing an upper fin assembly P/N 355A14-0522-1751 constitutes terminating action for the repetitive inspection requirements and the speed limitations. Lastly, EASA AD 2024-0139 prohibits installing affected upper fin assemblies on any helicopter.

This material is reasonably available because the interested parties have access to it through their normal course of business or by the means identified in the ADDRESSES section.

Differences Between This AD and the MCAI Referenced Material

While the material referenced in EASA AD 2024-0139 requires accomplishing dye penetrant inspections (DPI), this AD requires a DPI if the affected part has previously been inspected by a DPI method; otherwise, this AD requires a fluorescent penetrant inspection (FPI).

Where EASA AD 2024-0139 and the material referenced in EASA AD 2024-0139 specifies contacting Airbus Helicopters for repair instructions, this AD requires using a method approved by the FAA, EASA, or Airbus Helicopters' EASA Design Organization Approval.

EASA AD 2024-0139 requires informing all flight crew and operating the helicopter accordingly. However, this AD would not specifically require this action because 14 CFR 91.9 requires that no person may operate a civil aircraft without complying with the operating limitations specified in the RFM. Therefore, including a requirement in this AD to operate the helicopter according to the revised RFM would be redundant and unnecessary. Further, compliance with such a requirement in an AD would be impracticable to demonstrate or track on an ongoing basis; therefore, a requirement to operate the airplane in such a manner would be unenforceable.

EASA AD 2024-0139 allows a pilot to perform some actions, and this AD does not.

Costs of Compliance

The FAA estimates that this AD affects 650 helicopters of U.S. registry. The FAA estimates the following costs to comply with this AD.

Estimated Costs
Action | Labor cost | Parts cost | Cost per product | Cost on U.S. operators
Amend the RFM and install a placard | 1 work-hour × $85 per hour = $85 | $25 | $110 | $71,500
Clean and inspect the vertical fin spar | 2.5 work-hour × $85 per hour = $213 | 0 | 213 | 138,450
Modify the upper fin spar | 19 work-hour × $85 per hour = $1,615 | 25,360 | 26,975 | 17,533,750

The FAA estimates the following costs to do any repairs or replacements that would be required based on the results of the inspection. The agency has no way of determining the number of helicopters that might need this repair.

On-Condition Costs
Action | Labor cost | Parts cost | Cost per product
Perform a DPI or FPI on the upper fin spar | 1 work-hours × $85 per hour = $85 | $0 | $85

The extent of damage found during the required inspection of the vertical fin spar could vary significantly from helicopter to helicopter. The agency has no way of determining how much damage may be found during these inspections, the cost to repair damaged parts of each helicopter, or the number of helicopters that might need these repairs.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-20-16, Amendment 39-21754 (86 FR 57550, dated October 18, 2021); and

b. Adding the following new airworthiness directive:

2025-24-04 AIRBUS HELICOPTERS: Amendment 39-23199; Docket No. FAA-2025-1735; Project Identifier MCAI-2024-00408-R.

(a) Effective Date

This airworthiness directive (AD) is effective January 12, 2026.

(b) Affected ADs

This AD replaces AD 2021-20-16, Amendment 39-21754 (86 FR 57550, dated October 18, 2021).

(c) Applicability

This AD applies to Airbus Helicopters Model AS 350B3, AS355E, AS 355-F, AS 355-F1, AS355F2, AS355N, and AS355NP helicopters, certificated in any category, as identified in European Union Aviation Safety Agency AD 2024-0139, dated July 12, 2024 (EASA AD 2024-0139).

(d) Subject

Joint Aircraft System Component (JASC) Code 5531, Vertical Stabilizer, Spar/Rib Structure.

(e) Unsafe Condition

This AD was prompted by a report of a structural crack in the vertical attachment spar of the upper tail fin and fractures in its two front attachment screws. The FAA is issuing this AD to address cracking in the upper fin spar and fracturing of the front attachment screws. The unsafe condition, if not addressed, could result in in-flight separation of the upper part of the vertical fin and consequent loss of control of the helicopter.

(f) Compliance

Comply with this AD within the compliance times specified, unless already done.

(g) Requirements

Except as specified in paragraphs (h) and (i) of this AD: Comply with all required actions and compliance times specified in, and in accordance with, EASA AD 2024-0139.

(h) Exceptions to EASA AD 2024-0139

(1) Where EASA AD 2024-0139 requires compliance in terms of flight hours, this AD requires using hours time-in-service.

(2) Where EASA AD 2024-0139 refers to its effective date or to any of the dates listed in paragraphs (h)(2)(i) through (iv) of this AD, this AD requires using the effective date of this AD.

(i) July 12, 2017 (the effective date of EASA AD 2017-0114, dated June 28, 2017).

(ii) April 23, 2021 (the effective date of EASA AD 2021-0099, dated April 9, 2021).

(iii) April 14, 2023 (the effective date of EASA AD 2023-0075, dated April 7, 2023).

(iv) May 18, 2023 (the effective date of EASA AD 2023-0089, dated May 4, 2023).

(3) Where paragraph (1) of EASA AD 2024-0139 specifies to inform all flight crew and operate the helicopter accordingly, this AD does not require those actions as those actions are already required by existing FAA operating regulations (see 14 CFR 91.505 and 14 CFR 135.21).

(4) Although the material referenced in EASA AD 2024-0139 allows some actions to be performed by a pilot, this AD does not.

(5) Where the material referenced in EASA AD 2024-0139 states “if you are not sure”, this AD requires replacing that text with “to confirm suspected cracks (scratch, line, misalignment, etc.)”.

(6) Where the material referenced in EASA AD 2024-0139 states to do a dye-penetrant inspection (DPI), this AD requires the actions in paragraph (h)(6)(i), (ii), or (iii) of this AD, as applicable:

(i) If the right-hand (RH) side of the spar (a) has previously been inspected by a DPI method, accomplish a DPI of the RH side of the spar (a).

(ii) If the RH side of the spar (a) has not previously been inspected by a DPI, accomplish a fluorescent penetrant inspection (FPI) of the RH-hand side of the spar (a), instead of a DPI.

(iii) If you cannot determine whether the RH side of the spar (a) has previously been inspected by a DPI, clean all surfaces to be inspected and accomplish an FPI of the RH side of the spar (a) instead of a DPI.

Note 1 to paragraph (h)(6)(iii): Work Card 20-02-09-101 (MTC) contains DPI information related to this AD.

Note 2 to paragraph (h)(6)(iii): When entering compliance with the applicable paragraph of the AD into the helicopter maintenance records, explicitly documenting that a dye penetrant inspection was performed improves the accuracy of maintenance records regarding use of dye penetrant inspection dye.

(7) Where the material referenced in EASA AD 2024-0139 refers to damage, for this AD, damage is defined as looseness, corrosion, broken or missing lockwire, loss of protective surface finish, deformation, fracture, crack, or nick.

(8) Where paragraph (8) of EASA AD 2024-0139 states “maintenance flight”, this AD requires replacing that text with “flight to perform an operational check as specified in 14 CFR 91.407”.

(9) Where paragraph (10) of EASA AD 2024-0139 and the material referenced in EASA AD 2024-0139 specify contacting Airbus Helicopters for repair instructions, this AD requires using a repair method approved by the FAA, EASA, or Airbus Helicopters' EASA Design Organization Approval (DOA). If approved by the DOA, the approval must include the DOA-authorized signature.

(10) Where the material referenced in EASA AD 2024-0139 specifies to discard parts, this AD requires removing those parts from service.

(11) Where paragraph (16) of EASA AD 2024-0139 only allows credit for the initial actions in paragraphs (4) through (9) of EASA AD 2024-0139, this AD allows credit for any action in paragraphs (4) through (9) of EASA AD 2024-0139.

(12) This AD does not adopt the “Remarks” section of EASA AD 2024-0139.

(i) No Reporting Requirement

Although the material referenced in EASA AD 2024-0139 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local Flight Standards District Office/certificate holding district office.

(k) Additional Information

For more information about this AD, contact Steven Warwick, Aviation Safety Engineer, FAA, 1600 Stewart Ave., Suite 410, Westbury, NY 11590; phone: (817) 222-5225; email: steven.r.warwick@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0139, dated July 12, 2024.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on November 19, 2025.
Steven W. Thompson,
Acting Deputy Director, Compliance & Airworthiness Division, Aircraft Certification Service.

[FR Doc. 2025-22234 Filed 12-5-25; 8:45 am]

BILLING CODE 4910-13-P